DEPARTMENT OF THE INTERIOR

Bureau of Reclamation

[Nevada, INT-DES 01-43]

Implementation Agreement, Inadvertent Overrun and Payback Policy and Related Federal Actions, Colorado River in the Lower Basin

AGENCY: Bureau of Reclamation, Interior.

ACTION: Notice of public comment period extension.

SUMMARY: The Bureau of Reclamation (Reclamation) published a notice of availability of and public hearing for a draft environmental impact statement (EIS) on the Implementation Agreement, Inadvertent Overrun and Payback Policy and Related Federal Actions in the Federal Register, (67 FR 1988), on January 15, 2002, requesting comments on the adequacy of the draft EIS. This notice extends the original comment period, as identified below in the DATES section.

DATES: The comment period for receiving comments on the draft EIS has been extended from March 12, 2002, to March 26, 2002.

ADDRESSES: Send written comments to Mr. Bruce Ellis, Chief, Environmental Resources Management Division, Bureau of Reclamation, Phoenix Area Office (PXAO-1500), PO Box 81169, Phoenix, AZ 85069-1169; fax number (602) 216-4006.

A copy of the draft EIS is available upon request from Ms. Janice Kjesbo, Bureau of Reclamation, Phoenix Area Office (PXAO-1500), PO Box 81169, Phoenix, AZ 85069-1169, telephone (602) 216-3864, faxogram (602) 216-4006. A copy of the draft EIS is also available for public inspection and review at the libraries listed under SUPPLEMENTARY INFORMATION below.

SUPPLEMENTARY INFORMATION: Reclamation has issued a draft EIS on the proposed execution of an Implementation Agreement (IA) that would commit the Secretary of the Interior (Secretary) to make Colorado River water deliveries in accordance with the terms and conditions of the IA to enable certain southern California water agencies to implement a proposed Quantification Settlement Agreement (QSA). (The QSA is an agreement in principle among several southern California water agencies. It establishes a framework of conservation measures and water transfers within southern California for up to 75 years. The QSA provides a substantial mechanism for California to reduce its diversions of Colorado River water in normal years to its 4.4 million acre-feet per year apportionment.) The proposed Federal action includes the following components: Execution of an IA, wherein the Secretary agrees to changes in the amount and/or location of deliveries of Colorado River water that are necessary to implement the QSA; adoption of an Inadvertent Overrun and Payback Policy (IOP), which establishes requirements for payback of inadvertent overuse of Colorado River water by Colorado River water users in Arizona, California, and Nevada; and implementation of biological conservation measures to offset potential impacts from the proposed action that could occur to federally listed fish and wildlife species.

Copies of the draft EIS are available for public inspection and review at the following locations:

• Department of the Interior, Natural Resources Library, 1849 C St., NW, Washington, DC 20240.

• Bureau of Reclamation, Denver Office Library, Building 67, Room 167, Denver Federal Center, 6th and Kipling, Denver, CO 80225.

• Bureau of Reclamation, Lower Colorado Regional Office, Nevada Highway and Park St., Boulder City, NV 89006.

• Bureau of Reclamation, Phoenix Area Office, 2222 W. Dunlap Ave., Suite 100, Phoenix, AZ 85021.

• Bureau of Reclamation, Southern California Area Office, 27710 Jefferson Ave., Suite 201, Temecula, CA 92590-2628.

• Bureau of Reclamation, Yuma Area Office, 7301 Calle Agua Salada, Yuma, AZ 85364-9763.

• Bureau of Reclamation, Upper Colorado Regional Office, 125 S. State St., Salt Lake City, UT 84138-1102.

• Lake Havasu City Library, 1787 McCulloch Blvd. North, Lake Havasu City, AZ 86403.

• Mohave County Library, 1170 Hancock Rd., Bullhead City, AZ 86442.

• Parker Public Library, 1001 S. Navajo Ave., Parker, AZ 85344.

• Phoenix Public Library (Burton Barr Central), 1221 N. Central Ave., AZ 85004.

• Yuma County Library, 350 S. 3rd Ave., Yuma, AZ 85364.

• Los Angeles Central Library, 630 W. 5th St., Los Angeles, CA 90071.

• Palo Verde Valley Library, 125 W. Chanslor Way, Blythe, CA 92225.

• San Bernardino County Library, 1111 Bailey Ave., Needles, CA 92363.

• San Diego Central Library, 820 E St., San Diego, CA 92101.

• Henderson District Public Library, 280 South Water St., Henderson, NV 89015.

• Salt Lake City Public Library, 209 E 500 S, Salt Lake City, UT 84111.

Written comments received by Reclamation become part of the public record associated with this action. Accordingly, Reclamation makes these comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. However, we will not consider anonymous comments. We will make all submissions from organizations or businesses, and from individuals identifying themselves as representatives or officials of organizations or businesses, available for public disclosure in their entirety.

Dated: March 11, 2002.
Willie Taylor,
Director, Office of Environmental Policy and Compliance.

[FR Doc. 02-6284 Filed 3-14-02; 8:45 am]

BILLING CODE 4310-MN-P